DEPARTMENT OF THE INTERIOR

National Park Service

[NPS-WASO-NAGPRA-NPS0040023; PPWOCRADN0-PCU00RP14.R50000]

Notice of Intended Repatriation: Berkshire Museum, Pittsfield, MA

AGENCY: National Park Service, Interior.

ACTION: Notice.

SUMMARY: In accordance with the Native American Graves Protection and Repatriation Act (NAGPRA), the Berkshire Museum intends to repatriate a certain cultural item that meets the definition of an object of cultural patrimony and that has a cultural affiliation with the Indian Tribes or Native Hawaiian organizations in this notice.

DATES: Repatriation of the cultural item in this notice may occur on or after May 30, 2025.

ADDRESSES: Jason Vivori, Berkshire Museum, 39 South Street, Pittsfield, MA 01201, telephone (413) 443-7171 Ext. 341, email jvivori@berkshiremuseum.org.

SUPPLEMENTARY INFORMATION: This notice is published as part of the National Park Service's administrative responsibilities under NAGPRA. The determinations in this notice are the sole responsibility of the Berkshire Museum, and additional information on the determinations in this notice, including the results of consultation, can be found in the summary or related records. The National Park Service is not responsible for the determinations in this notice.

Abstract of Information Available

A total of one cultural item has been requested for repatriation. The one object of cultural patrimony is a splint basket. The Berkshire Museum, in consultation with the Stockbridge Munsee Community, has identified a splint basket and cover, item number C1987.3a,b. residing in the museum's collection which satisfies the definition of cultural patrimony. The constructive methodologies employed in weaving the basket, as well as the potato stamped design adorning its perimeter, are congruent with the cultural practices of Stockbridge-Munsee Mohican ancestors preserved in other affiliated examples of Mohican basketry traditions during the 1800s. Furthermore, museum documentation designates this basket as a “Stockbridge Mohican splint basket and cover, circa 1860.” Therefore, there is reasonable basis that the object is culturally affiliated to the Stockbridge-Munsee people, that the type of object was collectively harvested, and that the museum cannot establish right of possession based on lack of documentation indicating that the free, prior, and informed consent of the Mohican maker was obtained.

Determinations

The Berkshire Museum has determined that:

• The one object of cultural patrimony described in this notice has ongoing historical, traditional, or cultural importance central to the Native American group, including any constituent sub-group (such as a band, clan, lineage, ceremonial society, or other subdivision), according to the Native American traditional knowledge of an Indian Tribe or Native Hawaiian organization.

• There is a reasonable connection between the cultural item described in this notice and the Stockbridge Munsee Community, Wisconsin.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after May 30, 2025. If competing requests for repatriation are received, the Berkshire Museum must determine the most appropriate requestor prior to repatriation. Requests for joint repatriation of the cultural item are considered a single request and not competing requests. The Berkshire Museum is responsible for sending a copy of this notice to the Indian Tribes and Native Hawaiian organizations identified in this notice and to any other consulting parties.

Authority: Native American Graves Protection and Repatriation Act, 25 U.S.C. 3004 and the implementing regulations, 43 CFR 10.9.

Dated: April 15, 2025.
Melanie O'Brien,
Manager, National NAGPRA Program.

[FR Doc. 2025-07432 Filed 4-29-25; 8:45 am]

BILLING CODE 4312-52-P